NATIONAL AERONAUTICS AND SPACE ADMINISTRATION

[Notice 05-154]

NASA Advisory Committee; Renewal of NASA's Aerospace Safety Advisory Panel Charter

AGENCY: National Aeronautics and Space Administration (NASA).

ACTION: Notice of Renewal and amendment of the Charter of the Aerospace Safety Advisory Panel.

SUMMARY: Pursuant to sections 14(b)(1) and 9(c) of the Federal Advisory Committee Act (Pub. L. 92-463), and after consultation with the Committee Management Secretariat, General Services Administration, the Administrator of the National Aeronautics and Space Administration has determined that a renewal of the Aerospace Safety Advisory Panel is in the public interest in connection with the performance of duties imposed upon NASA by law. The structure and duties of this panel is unchanged.

FOR FURTHER INFORMATION CONTACT: Ms. P. Diane Rausch, Office of External Relations, National Aeronautics and Space Administration, Washington, DC 20546, (202) 358-4510.

SUPPLEMENTARY INFORMATION: Information regarding the Aerospace Safety Advisory Panel is available on the world wide web at: http://www.hq.nasa.gov/office/codeq/asap/index.htm.

Dated: November 17, 2005.
P. Diane Rausch,
Advisory Committee Management Officer, National Aeronautics and Space Administration.

[FR Doc. 05-23232 Filed 11-23-05; 8:45 am]

BILLING CODE 7510-13-U